DEPARTMENT OF THE INTERIOR

Fish and Wildlife Service

[FWS-R5-R-2008-N0018; 50133-1265-PKRP-S3]

Wapack National Wildlife Refuge, Hillsborough County, NH

AGENCY: Fish and Wildlife Service, Interior.

ACTION: Notice of availability: draft comprehensive conservation plan and environmental assessment; request for comments.

SUMMARY: We, the U.S. Fish and Wildlife Service (Service), announce the availability of a Draft Comprehensive Conservation Plan (CCP) and Environmental Assessment (EA) for Wapack National Wildlife Refuge (NWR), and request public review and comment on its proposals. We prepared the Draft CCP/EA in compliance with the National Environmental Policy Act of 1969 and the National Wildlife Refuge System Administration Act of 1966, as amended by the National Wildlife Refuge System Improvement Act of 1997.

DATES: The Draft CCP/EA will be available for public review and comment until the close of business on May 1, 2008. To ensure consideration, we must receive your comments by that date. We must also receive any requests for hard-copy documents for review no later than April 15, 2008. We plan to host one public meeting on April 17, 2008 at the Shieling Forest visitor building, One Old Street Road, in Peterborough, New Hampshire. We will post additional details of that meeting approximately 2 weeks in advance on the Web site http://www.fws.gov/northeast/planning/Wapack/ccphome.html, via our project mailing list, and in local papers.

ADDRESSES: You may obtain copies of the draft CCP/EA on compact diskette or in print by writing to Nancy McGarigal, Refuge Planner, U.S. Fish and Wildlife Service, 300 Westgate Center Drive, Hadley, Massachusetts 01035, or by electronic mail at northeastplanning@fws.gov; please put the words “Wapack Refuge” in your subject line. You may also view the draft document on the Web at http://library.fws.gov/CCPs/wapack/index.html.

FOR FURTHER INFORMATION CONTACT: Nancy McGarigal, Refuge Planner, at the address above, by telephone at 413-253-8562, by fax at 413-253-8468, or by electronic mail at northeastplanning@fws.gov. Please use the words “Wapack Refuge” in your subject line.

SUPPLEMENTARY INFORMATION: The National Wildlife Refuge System Administration Act of 1966, as amended by the National Wildlife Refuge System Improvement Act of 1997 (16 U.S.C. 668dd-668ee), requires the Service to develop a CCP for each refuge. The purpose of developing a CCP is to provide refuge managers with a 15-year plan for achieving refuge purposes and contributing to the mission of the National Wildlife Refuge System (NWRS), in conformance with the sound principles of fish and wildlife science, natural resources conservation, legal mandates, and Service policies. In addition to outlining broad management direction on conserving wildlife and habitats, CCPs identify wildlife-dependent recreational opportunities available to the public, including wildlife observation, photography, environmental education, and interpretation. The Service will review and update each CCP at least once every 15 years, in accordance with the National Wildlife Refuge System Improvement Act of 1997 and the National Environmental Policy Act of 1969.

The 1,625-acre Wapack NWR, established by donation in 1972, was the first national wildlife refuge in New Hampshire. Its purpose is for use as an inviolate sanctuary or for any other management purpose for migratory birds. Because it is un-staffed, the Great Bay NWR staff, headquartered in Newington, New Hampshire, administers it. The refuge is located about 20 miles west of Nashua, New Hampshire, and encompasses the 2,278-foot elevation North Pack Monadnock Mountain in the towns of Greenfield and Temple, New Hampshire. The terms of the deed require the Service to manage the refuge in a “wilderness-like” setting for wildlife. Specific deed restrictions prohibit using motorized vehicles, hunting and fishing, trapping, or cutting trees.

Generally, mature northern hardwood-mixed and spruce-fir forest characterizes the refuge. It provides nesting habitat for numerous migratory songbirds, such as the black-capped chickadee, blackburnian warbler, black-throated blue warbler, hermit thrush, myrtle warbler, ovenbird, and red-eyed vireo. The refuge also supports a wide variety of other native wildlife, including deer, bear, coyote, fisher, fox, mink and weasel.

Visitors often engage in wildlife observation and photography on the refuge. It is especially popular for viewing the fall migration of hawks. A 4-mile segment of the 21-mile Wapack Trail traverses it, and rewards hikers with a beautiful view of the surrounding mountains. Two other trails cross the refuge to offer a 6-mile circuit hike.

The Draft CCP/EA evaluates two alternatives, which address eleven key issues identified by the public, State or Federal agencies, other Service programs, and our planning team. The draft CCP/EA describes those issues in detail. Highlights follow.

Alternative A (Current Management): This alternative is the “No Action” alternative required by the National Environmental Policy Act of 1969 (42 U.S.C. 4321-4347, as amended). Alternative A defines our current management activities, and serves as the baseline against which to compare the other alternative. The Service would continue to manage the refuge in a “wilderness-like” setting, without actively managing its habitat, thereby allowing natural succession to continue without human interference. The Service would continue to allow only compatible uses that are consistent with a “wilderness-like” setting and adhere to other deed restrictions. We would not allow hunting, fishing, trapping, driving motor vehicles, or cutting trees (except for maintaining trails). In addition, we would continue to prohibit camping, mountain biking, horseback riding and dog walking. This alternative would not improve access to the refuge or the visibility of the Service in the area. We would continue our informal relationships with the Friends of the Wapack and the Mountain View Hiking Club to maintain refuge trails. We would also continue to work under a memorandum of agreement with the New Hampshire Fish and Game Department to resolve inter-jurisdictional issues on the refuge as they arise.

Alternative B (the Service-preferred alternative): Alternative B is the alternative we propose as the best means to manage this refuge over the next 15 years. It includes an array of management actions that, in our professional judgment, work best toward achieving the purpose of the refuge, our vision and goals for it and State and regional conservation plans. In our opinion, this alternative would most effectively address the key issues.

We propose to focus on improving our baseline biological database and enhancing visitor services programs by expanding our partnerships with other federal agencies, state agencies, town departments, local conservation organizations, and individuals. One such project is to gather baseline data on the populations of plants and wildlife on the refuge in partnership with the U.S. Forest Service. We would also use partnerships to maintain trails, develop and maintain a new trailhead parking area, and assess and monitor threats to the integrity of refuge habitat. We would also increase our presence on the refuge and its visibility in the local community, and better communicate refuge regulations, visitor information, and contact information.

Under alternative B, we would manage public uses similar to alternative A by allowing only compatible activities that are consistent with a “wilderness-like” setting and adhere to other deed restrictions. The only differences are that we would allow dog walking on leash and recreational berry-picking.

This alternative does not propose to expand the refuge. However, we would offer our support to partners engaged in other land conservation and protection in the area, work with them to identify lands of high wildlife value in need of protection, and provide them with technical assistance in managing them.

After we evaluate and respond to the public comments on this Draft CCP/EA, we will prepare a final CCP for our Regional Director's approval. He will determine whether a Finding of No Significant Impact (FONSI) is appropriate, and certify whether the final CCP meets agency compliance requirements, achieves refuge purposes, and helps fulfill the mission of the NWRS. With an affirmative FONSI and other positive findings, the Regional Director can approve the final CCP. If he issues a FONSI and approves that final CCP, we will announce its availability in the Federal Register and begin its implementation.

Dated: January 18, 2008.
Wendi Weber,
Acting Regional Director, Region 5, U.S. Fish and Wildlife Service, Hadley, Massachusetts.

[FR Doc. E8-6043 Filed 3-24-08; 8:45 am]

BILLING CODE 4310-55-P